DEPARTMENT OF COMMERCE

National Oceanic and Atmospheric Administration

[I.D. 072505B]

Caribbean Fishery Management Council; Public Meeting

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on August 16 and 17, 2005. The Council will convene on Tuesday, August 16, 2005, from 9 a.m. to 5 p.m., and the Administrative Committee will meet from 5:15 p.m. to 6 p.m. The Council will reconvene on Wednesday, August 17, 2005, from 9 a.m. to 5 p.m., approximately.

ADDRESSES: The meetings will be held at The Buccaneer Hotel, Estate Shoys, Christiansted, St. Croix, USVI, 00824.

FOR FURTHER INFORMATION CONTACT: Caribbean Fishery Management Council, 268 Munoz Rivera Avenue, Suite 1108, San Juan, Puerto Rico 00918-1920, telephone (787) 766-5926.

SUPPLEMENTARY INFORMATION: The Council will hold its 119th regular public meeting to discuss the items contained in the following agenda:

August 16, 2005

9 a.m. - 5 p.m.

Call to Order

Election of Officers

Adoption of Agenda

Consideration of 118th Council Meeting Verbatim Transcription

Executive Director's Report

Recognitions to:

- Mr. Robert McAuliffe

-U.S.V.I. Fishermen

-Mr. James Weaver

SFA Update and Discussion of Future Actions

Deep Water Corals Project Briefing -Graciela Garcia-Moliner

Traps Studies - Ron Hill

5:15 p.m. - 6 p.m.

Administrative Committee Meeting

-AP/SSC/HAP Membership

-Budget 2004, 2005

-Other Business

August 17, 2005

9 a.m. - 5 p.m.

HMS Presentation

Enforcement Reports

-Puerto Rico

-US Virgin Islands

-NOAA

-US Coast Guard

Negotiating Panels

Administrative Committee Recommendations

Meetings attended by Council members and staff

Other Business

Next Council Meeting

The meetings are open to the public, and will be conducted in English. Fishers and other interested persons are invited to attend and participate with oral or written statements regarding agenda issues. Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico, 00918-2577, telephone (787) 766-5926, at least 5 days prior to the meeting date.

Dated: July 25, 2005.
Alan D. Risenhoover,
Acting Director, Office of Sustainable Fisheries, National Marine Fisheries Service.

[FR Doc. E5-4028 Filed 7-28-05; 8:45 am]

BILLING CODE 3510-22-S